NUCLEAR REGULATORY COMMISSION

[NUREG-1748, Final Report]

Environmental Review Guidance for Licensing Actions Associated With NMSS Programs

AGENCY: Nuclear Regulatory Commission.

ACTION: Notice of Availability of Final Report.

SUMMARY: The Nuclear Regulatory Commission (NRC) is announcing the availability of the final report “Environmental Review Guidance for Licensing Actions Associated with NMSS Programs” (NUREG-1748). This document provides guidance for the planning and implementation of National Environmental Policy Act requirements for activities performed in the Office of Nuclear Materials Safety and Safeguards (NMSS). Public comments were solicited as noticed in the Federal Register on October 18, 2001 (66 FR 52951) and again on May 29, 2002 (67 FR 37461).

ADDRESSES: NUREG-1748 is available for inspection and copying for a fee at the Commission's Public Document Room, U.S. NRC's Headquarters Building, 11555 Rockville Pike (first floor), Rockville, Maryland, and electronically from the ADAMS Public Library component on the NRC Web Site, http://www.nrc.gov (the Electronic Reading Room). For those without access to the Internet, paper copies of any electronic documents may be obtained for a fee by contacting the NRC's Public Document Room at 301-415-4737 or toll free at 1-800-397-4209.

FOR FURTHER INFORMATION CONTACT: Matthew Blevins, U.S. Nuclear Regulatory Commission, Mail Stop T7-J8, Washington, DC 20555, Phone Number: (301) 415-7684, e-mail: mxb6@nrc.gov.

SUPPLEMENTARY INFORMATION: This guidance document, NUREG-1748, provides general procedures for the environmental review of licensing actions regulated by NMSS. Although the main focus of this guidance is the NRC staff's environmental review process, it also contains related information which applicants and licensees may find useful. Chapter 1 provides a summary and overview of the guidance. This chapter briefly discusses the three ways in which an environmental review is performed, either by meeting the criteria for a categorical exclusion or by preparing an environmental assessment (EA) or environmental impact statement (EIS). This chapter also discusses early planning for an EA or EIS and methods of using previous environmental analyses related to the proposed action. Chapter 2 discusses the categorical exclusions and the basis of their use. Chapter 3 discusses the EA process, including preparation and content of the EA, and preparation of the Finding of No Significant Impact. Chapter 4 discusses the process of preparing an EIS, from developing a project plan through scoping, consultations and public meetings, to preparing the Record of Decision. Chapter 5 discusses the technical content of the EIS, and Chapter 6 discusses environmental information that should be considered by applicants and licensees in preparing their environmental report.

Dated at Rockville, Maryland, this 22nd day of August 2003.
For the Nuclear Regulatory Commission.
Scott Flanders,
Chief, Environmental and Low-Level Waste Section, Environmental and Performance Assessment Branch, Division of Waste Management, Office of Nuclear Material Safety and Safeguards.

[FR Doc. 03-22876 Filed 9-8-03; 8:45 am]

BILLING CODE 7590-01-P